DEPARTMENT OF COMMERCE

International Trade Administration

[A-580-812]

Dynamic Random Access Memory Semiconductors (“DRAMs”): Rescission of Changed Circumstances Review

AGENCY: Import Administration, International Trade Administration, Department of Commerce.

SUMMARY: On December 13, 1999, the Department of Commerce (“the Department”) initiated a changed circumstances review, in response to a request from Micron Technology Inc. (“the petitioner”), to determine whether Hyundai MicroElectronics Co., Ltd. (“Hyundai MicroElectronics”), is the successor-in-interest to LG Semicon Co., Ltd., (“LG Semicon”) and Hyundai Electronics Industries Co., Ltd., (“Hyundai”). The Department is rescinding this review after receiving a withdrawal from the petitioner of its request for review.

EFFECTIVE DATE: September 19, 2000.

FOR FURTHER INFORMATION CONTACT: Ronald Trentham or Maisha Cryor, AD/CVD Enforcement, Office 4, Group II, Import Administration, International Trade Administration, U.S. Department of Commerce, 14th Street and Constitution Avenue, NW., Washington, DC 20230; (202) 482-6320 and (202) 482-5831, respectively.

The Applicable Statute

Unless otherwise indicated, all citations to the Tariff Act of 1930, as amended (“the Act”), are references to the provisions effective January 1, 1995, the effective date of the Uruguay Round Agreements Act. In addition, unless otherwise indicated, all citations to the Department's regulations are to the regulations at 19 CFR Part 351 (1999).

Background

On November 12, 1999, the petitioner requested that the Department conduct a changed circumstances review to determine the cash deposit rate to be applied to Hyundai MicroElectronics in light of the acquisition of LG Semicon by Hyundai, two companies subject to the antidumping duty order.

On December 13, 1999, the Department published in the Federal Register (64 FR 69492) a notice of initiation of a changed circumstances review. On August 14, 2000, the petitioner requested that it be allowed to withdraw its request for review.

Rescission of Review

The Department is rescinding this review because the requesting party withdrew its request and there are no compelling reasons to continue the review. See Brass Sheet and Strip From Canada; Termination of Antidumping Duty Administrative Review, 63 FR 23269 (April 28, 1998). We note that LG Semicon and Hyundai currently have the same cash deposit rate and that the acquisition of LG Semicon by Hyundai took place in October 1999. Therefore, we will address the acquisition in the context of the May 1, 1999 through April 30, 2000 administrative review of DRAMs from Korea.

This notice serves as the only reminder to parties subject to administrative protective order (APO) of their responsibility concerning the disposition of proprietary information disclosed under APO in accordance with 19 CFR 351.105(a). Timely written notification of return/destruction of APO materials or conversion to judicial protective order is hereby requested. Failure to comply with the regulation and the terms of an APO is a sanctionable violation.

This notice is in accordance with section 771(i) of the Act and of 19 CFR 351.216.

Dated: September 8, 2000.
Holly A. Kuga,
Acting Deputy Assistant Secretary for Import Administration.

[FR Doc. 00-24036 Filed 9-18-00; 8:45 am]

BILLING CODE 3510-DS-P